CONSUMER PRODUCT SAFETY COMMISSION

[Docket No. CPSC-2020-0021]

Agency Information Collection Activities; Proposed Collection; Comment Request; Child Strength Study

AGENCY: Consumer Product Safety Commission.

ACTION: Notice.

SUMMARY: The Consumer Product Safety Commission (CPSC or Commission) is announcing an opportunity for public comment on a new proposed collection of information by the agency. Under the Paperwork Reduction Act of 1995 (PRA), federal agencies are required to publish notice in the Federal Register for each proposed collection of information and to allow 60 days for public comment in response to the notice. This notice solicits comments on a study that will assess the strength capabilities of children. The Commission will consider all comments received in response to this notice before submitting this collection of information to the Office of Management and Budget (OMB) for approval.

DATES: Submit written or electronic comments on the collection of information by October 30, 2020.

ADDRESSES: You may submit comments, identified by Docket No. CPSC-2020-2021, by any of the following methods:

Electronic Submissions: Submit electronic comments to the Federal eRulemaking Portal at: https://www.regulations.gov. Follow the instructions for submitting comments. CPSC does not accept comments submitted by electronic mail (email), except through https://www.regulations.gov. CPSC encourages you to submit electronic comments by using the Federal eRulemaking Portal, as described above.

Mail/hand delivery/courier Written Submissions: Submit comments by mail/hand delivery/courier to: Division of the Secretariat, Consumer Product Safety Commission, Room 820, 4330 East West Highway, Bethesda, MD 20814; telephone: (301) 504-7479; email: AMills@cpsc.gov.

Instructions: All submissions must include the agency name and docket number for this notice. CPSC may post all comments received without change, including any personal identifiers, contact information, or other personal information provided, to: https://www.regulations.gov. Do not submit electronically: confidential business information, trade secret information, or other sensitive or protected information that you do not want to be available to the public. If you wish to submit such information, please submit it according to the instructions for written submissions.

Docket: For access to the docket to read background documents or comments received, go to: https://www.regulations.gov, insert Docket No. CPSC-2020-2021 into the “Search” box, and follow the prompts. A copy of the proposed study is available at http://www.regulations.gov under Docket No. CPSC-2020-2021, Supporting and Related Material.

FOR FURTHER INFORMATION CONTACT: Kristen Talcott, Consumer Product Safety Commission, 5 Research Place, Rockville, MD 20850; (301) 987-2311; or by email to: KTalcott@cpsc.gov.

SUPPLEMENTARY INFORMATION: Under the PRA (44 U.S.C. 3501-3520), federal agencies must obtain approval from OMB for each collection of information they conduct or sponsor. “Collection of information” is defined in 44 U.S.C. 3502(3) and 5 CFR 1320.3(c) and includes agency data collection studies. Section 3506(c)(2)(A) of the PRA (44 U.S.C. 3506(c)(2)(A)) requires federal agencies to provide a 60-day notice in the Federal Register concerning each proposed collection of information before submitting the collection to OMB for approval. Accordingly, CPSC is publishing notice of the proposed collection of information set forth in this document.

A. Proposed Child Strength Study

The Commission is authorized under section 5(a) of the Consumer Product Safety Act (CPSA), 15 U.S.C. 2054(a), to conduct studies and investigations relating to the causes and prevention of deaths, accidents, injuries, illnesses, other health impairments, and economic losses associated with consumer products. Section 5(b) of the CPSA, 15 U.S.C. 2054(b), further provides that the Commission may conduct research, studies, and investigations on the safety of consumer products or test consumer products and develop product safety test methods and testing devices.

CPSC uses data on human strength capabilities to develop product safety standards and inform other CPSC staff activities. CPSC's product safety work includes developing mandatory standards, enforcing existing safety requirements, and working with voluntary standards organizations to improve the safety of consumer products, including children's products. Products that are intended for children, and products that are not intended for children, can pose a hazard to a child (e.g., if the product or a component of it breaks, collapses, or liberates a small part). Information about children's strength capabilities is essential to improve product safety because it can inform the development of performance requirements that consider children's interactions with product components. Manufacturers can also use this information when designing products.

In the 1970s, CPSC sponsored studies to conduct research on human size and strength; specifically, Snyder et al. (1975 ¹ and 1977 ²), studied child anthropometry and Owings et al. (1975 ³ and 1977 ⁴), studied child strength. The research results were instrumental for many years in developing product safety standards; however, because the strength studies occurred more than 40 years ago, the information needs to be updated. Moreover, more recent studies lack information on younger children and additional strength measures, and they have collected data from a very small number of children. CPSC expects that the proposed information collection activity would provide CPSC staff with information that reflects more accurately the strength capabilities of children today, as well as data that is not available in literature currently, including data on younger children and additional strength measures.

¹ Snyder, R.G., Spencer, M.L., Owings, C.L., and Schneider, L.W. (1975). The Physical Characteristics of Children as Related to Death and Injury for Consumer Product Design and Use (Report No. UM-HSRI-BI-75-5). Prepared for the U.S. Consumer Product Safety Commission. Ann Arbor, MI: The Highway Safety Research Institute, University of Michigan.

² Snyder, R.G., Schneider, L.W., Owings, C.L., Reynolds, H.M., Golomb, D.H., and Schork, M.A. (1977). Anthropometry of Infants, Children, and Youths to Age 18 for Product Safety Design. Final Report UM-HSRI-77-17. University of Michigan Transportation Research Institute, Ann Arbor, MI. Prepared for the U.S. Consumer Product Safety Commission, Washington, DC 014926-F.

³ Owings, C.L., Chaffin, D.B., Snyder, R.G., and Norcutt, R.H. (1975). Strength Characteristics of U.S. Children for Product Safety Design. U.S. Consumer Product Safety Commission, Bethesda, MD.

⁴ Owings, C.L., Norcutt, R.H., Snyder, R.G., Golomb, D.H., and Lloyd, K.Y. (1977). Gripping Strength Measurements of Children for Product Safety Design (Contract No. CPSC-C-76-0119).

The proposed study would collect data from a sample of up to approximately 800 children between the ages of 3 months and 5 years to assess children's strength capabilities. The proposed study would collect data on bite strength for children ages 3 months through 5 years, and strength data for children ages 6 months through 5 years. The information collected from the proposed study would provide CPSC staff with updated child strength measures, including upper and lower extremities and bite strength for expanded age ranges. With this information, CPSC would have more accurate and current data for developing voluntary and mandatory safety standards. This information will also help staff to analyze injuries and deaths of children interacting with consumer products and determine whether a product presents a safety hazard.

CPSC has contracted with the University of Michigan to conduct the proposed study and collect the data. A team of researchers at the University of Michigan Transportation Research Institute (UMTRI) will lead the study, and the study will be conducted at UMTRI Laboratories in Ann Arbor, MI. The contractor will recruit children to participate through their caregivers, using the University of Michigan Engage site, Craigslist, and flyers placed at UMTRI. The contractor will create a customized tool for data collection and feedback. The contractor will assign participants a random identification number that is not linked to any personal identifying information and will de-identify photos and videos of participants, taken to document their exertion postures, by blurring the faces. Participation will be voluntary and information collected from participants will be kept confidential and only used for research purposes. Following data collection, the contractor will provide CPSC staff with raw strength and position data (with identifying information removed), as well as a final report. After CPSC staff has reviewed and approved the final report, CPSC will release the report on the agency's website and through presentations at meetings and conferences related to the subject matter, in accordance with applicable laws and Commission policy.

B. Burden Hours

We estimate that the study will involve 3,050 respondents and take a total of 1,813 hours over the duration of the study. The monetized hourly cost is $37.73, as defined by the average total hourly cost to employers for employee compensation for all civilian employees across all occupations as of March 2020, reported by the Bureau of Labor Statistics, Employer Costs for Employee Compensation. Accordingly, we estimate the total cost burden to be $68,404 (1,813 hours × $37.73 = $68,404). The estimated cost to the federal government for the contract to design and conduct the study issued to the University of Michigan under contract number 61320618D0004 is $1,134,502. The total estimated cost to the federal government is $1,134,502 for the contract, plus $170,356 in government labor costs, for a total of $1,304,858.

C. Request for Comments

CPSC invites comments on these topics:

• Whether the proposed collection of information is necessary for the proper performance of CPSC's functions, including whether the information will have practical utility;

• The accuracy of CPSC's estimate of the burden of the proposed collection of information, including the validity of the methodology and assumptions used;

• Ways to enhance the quality, utility, and clarity of the information to be collected;

• Ways to minimize the burden of the collection of information on participants, including through the use of automated collection techniques, when appropriate, and other forms of information technology; and

• Additional measures of children's strength capabilities, other than those already included in this proposed collection of information, which would be informative for developing consumer safety standards.

Alberta E. Mills,
Secretary, Consumer Product Safety Commission.

[FR Doc. 2020-19142 Filed 8-28-20; 8:45 am]

BILLING CODE 6355-01-P